DEPARTMENT OF TRANSPORTATION

Federal Aviation Administration

14 CFR Part 39

[Docket No. 2001-NM-244-AD; Amendment 39-12816; AD 2002-14-16]

RIN 2120-AA64

Airworthiness Directives; McDonnell Douglas Model 717-200 Airplanes

AGENCY: Federal Aviation Administration, DOT.

ACTION: Final rule.

SUMMARY: This amendment adopts a new airworthiness directive (AD), applicable to certain McDonnell Douglas Model 717-200 airplanes, that requires repetitive inspections for cracking of the spoiler hold-down actuator supports located on the left and right wing rear spars; adjustment of the spoiler hold-down actuators; and replacement of cracked spoiler hold-down actuator supports with new, improved supports. This AD also requires replacement of all spoiler hold-down actuator supports with new, improved supports, which terminates the repetitive inspections. The actions specified by this AD are intended to detect and correct as well as to prevent cracks in the spoiler hold-down actuator supports, which could lead to reduced spoiler hold-down capability, resulting in loss of the back-up protection of the spoiler float hold-down and unavailability of monitoring for an uncommanded spoiler movement.

DATES: Effective August 16, 2002.

The incorporation by reference of certain publications listed in the regulations is approved by the Director of the Federal Register as of August 16, 2002.

ADDRESSES: The service information referenced in this AD may be obtained from Boeing Commercial Aircraft Group, Long Beach Division, 3855 Lakewood Boulevard, Long Beach, California 90846, Attention: Data and Service Management, Dept. C1-L5A (D800-0024). This information may be examined at the Federal Aviation Administration (FAA), Transport Airplane Directorate, Rules Docket, 1601 Lind Avenue, SW., Renton, Washington; or at the FAA, Los Angeles Aircraft Certification Office, 3960 Paramount Boulevard, Lakewood, California; or at the Office of the Federal Register, 800 North Capitol Street, NW., suite 700, Washington, DC.

FOR FURTHER INFORMATION CONTACT: Technical Information: Maureen Moreland, Aerospace Engineer, Airframe Branch, ANM-120L, FAA, Los Angeles Aircraft Certification Office, 3960 Paramount Boulevard, Lakewood, California 90712-4137; telephone (562) 627-5238; fax (562) 627-5210.

Other Information: Judy Golder, Airworthiness Directive Technical Editor/Writer; telephone (425) 687-4241; fax (425) 227-1232. Questions or comments may also be sent via the Internet using the following address: judy.golder@faa.gov. Questions or comments sent via the Internet as attached electronic files must be formatted in Microsoft Word 97 for Windows or ASCI text,

SUPPLEMENTARY INFORMATION: A proposal to amend part 39 of the Federal Aviation Regulations (14 CFR part 39) to include an airworthiness directive (AD) that is applicable to certain McDonnell Douglas Model 717 series airplanes was published in the Federal Register on January 4, 2002 (67 FR 538). That action proposed to require repetitive inspections for cracking of the spoiler hold-down actuator supports located on the left and right wing rear spars; adjustment of the spoiler hold-down actuators; and replacement of cracked spoiler hold-down actuator supports with new, improved supports. That action also proposed to require replacement of all spoiler hold-down actuator supports with new, improved supports which terminates the repetitive inspections.

Explanation of Change to Applicability

The FAA has revised the applicability of the existing AD to identify the model designation as published in the most recent type certificate data sheet for the affected models.

Explanation of Changes to Paragraph (a) of this AD

Paragraph (a) of the proposed rule pertains to both initial and repetitive inspections of the spoiler hold-down actuator supports. For purposes of clarity, this AD has been revised to specify requirements for the initial inspection in paragraph (a) of this AD and those for repetitive inspections in paragraph (b) of this AD.

In addition, the FAA has changed all reference to a “detailed visual inspection” to a “detailed inspection” in this final rule.

Explanation of Changes to Notes 3 and 4

Information pertaining to inspections accomplished prior to the effective date of this AD in accordance with Boeing Alert Service Bulletin 717-57A0002, Revision 01, dated February 28, 2001, has been removed from Note 3 of the proposed rule and incorporated into paragraph (c) of this AD to clarify the compliance time for performing the next repetitive inspection.

Information pertaining to replacement of a spoiler hold-down actuator support, accomplished prior to the effective date of this AD in accordance with Boeing Service Bulletin 717-57-0004, dated May 30, 2001, has been removed from Note 4 of the proposed rule and incorporated into paragraph (d) of this AD to clarify that the replacement constitutes terminating action for the particular actuator support.

Comments

Interested persons have been afforded an opportunity to participate in the making of this amendment. Due consideration has been given to the comments received.

Request To Extend Compliance Time for Terminating Action

Two commenters request that the compliance time for terminating action be extended from 15 months to 60 months after the effective date of the AD. The commenters suggest that the proposed repetitive inspections at intervals of 500 flight hours will ensure airworthiness until the 60-month time limit is reached.

The FAA does not concur. The 15-month compliance period was based upon study of the consequences of failure of the spoiler hold-down actuator supports and associated parts, the availability of replacement parts, typical maintenance intervals, and the work hours required to accomplish terminating action. In addition, the manufacturer of the airplane recommended a 15-month period for replacement of the specified parts. The FAA finds that a compliance time which does not exceed 15 months is necessary to ensure continued operational safety of these airplanes. However, paragraph (e) of this final rule does provide affected operators the opportunity to apply for an adjustment of the compliance time if data are presented to justify such an adjustment. Accordingly, no change has been made to the proposed rule in this regard.

Conclusion

After careful review of the available data, including the comments noted above, the FAA has determined that air safety and the public interest require the adoption of the rule with the changes described previously. We have determined that these changes will neither increase the economic burden on any operator nor increase the scope of the AD.

Cost Impact

There are approximately 52 McDonnell Douglas Model 717 series airplanes of the affected design in the worldwide fleet. The FAA estimates that 36 airplanes of U.S. registry will be affected by this AD.

It will take approximately 12 work hours per airplane to accomplish the required detailed inspection for cracks and the adjustment of the spoiler hold-down actuator supports at an average labor rate of $60 per work hour. Based on these figures, the cost impact of the inspection and adjustment on U.S. operators is estimated to be $25,920, or $720 per airplane, per inspection cycle.

It will take approximately 18 to 43 work hours per airplane to accomplish the replacement of the spoiler hold-down actuator supports and associated parts at an average labor rate of $60 per work hour. The manufacturer has committed previously to its customers that it will bear the cost of replacement parts. As a result, the cost of those parts is not attributable to this AD. Based on these figures, the cost impact of the replacement on U.S. operators is estimated to be between $38,880 and $92,880, or between $1,080 and $2,580 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2002-14-16 McDonnell Douglas: Amendment 39-12816. Docket 2001-NM-244-AD.

Applicability: Model 717-200 airplanes, manufacturer's fuselage numbers 5002 through 5064 inclusive, and 5066 through 5073 inclusive; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if the unsafe condition has not been eliminated, the request should include specific proposed actions to address it.

Compliance: Required as indicated, unless accomplished previously.

To detect and correct as well as to prevent cracks in the spoiler hold-down actuator supports, which could lead to reduced spoiler hold-down capability, resulting in loss of the back-up protection of the spoiler float hold-down and unavailability of monitoring for an uncommanded spoiler movement, accomplish the following:

Initial Inspection

(a) Prior to the accumulation of 1,500 total flight hours (FH) or within 500 FH after the effective date of this AD, whichever occurs later: Perform a detailed inspection of the spoiler hold-down actuator supports on the left and right wing rear spar for cracks, in accordance with Boeing Alert Service Bulletin 717-57A0002, Revision 02, dated October 2, 2001.

(1) If no crack is detected: Prior to further flight, adjust the spoiler hold-down actuators in accordance with the service bulletin.

(2) If any crack is detected: Prior to further flight, adjust the spoiler hold-down actuators in accordance with the service bulletin. Within 500 flight hours after accomplishment of the inspection, replace the cracked spoiler hold-down actuator supports and associated idler link(s), hinge pins, and attaching parts with new parts and adjust the spoiler hold-down actuators, in accordance with Boeing Service Bulletin 717-57-0004, Revision 01, dated October 2, 2001. Replacement of a cracked spoiler hold-down actuator support as required herein constitutes terminating action for that actuator support for the requirements of this AD.

Note 2: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Repetitive Inspections

(b) If the initial inspection required by paragraph (a) of this AD does not detect cracks, repeat the detailed inspection of the spoiler hold-down actuator support, in accordance with Boeing Alert Service Bulletin 717-57A0002, Revision 02, dated October 2, 2001, at intervals not to exceed 500 flight hours until the accomplishment of the requirements of paragraph (d) of this AD.

(c) If a detailed inspection for cracks of a spoiler hold-down actuator support was performed and the actuator was adjusted prior to the effective date of this AD, in accordance with Boeing Alert Service Bulletin 717-57A0002, Revision 01, dated February 28, 2001, repeat the detailed inspection in accordance with Boeing Alert Service Bulletin 717-57A0002, Revision 02, dated October 2, 2001, within 500 FH of the last inspection or within 500 FH of the effective date of this AD, whichever occurs later.

Terminating Action

(d) Within 15 months after the effective date of this AD: Replace spoiler hold-down actuator supports, idler links, hinge pin, and attaching parts with new parts and adjust the spoiler hold-down actuators, in accordance with Boeing Service Bulletin 717-57-0004, Revision 01, dated October 2, 2001. Replacement of all spoiler hold-down actuators in accordance with Boeing Service Bulletin 717-57-0004, Revision 01, dated October 2, 2001, constitutes terminating action for the requirements of this AD.

(1) Any spoiler hold-down actuator supports, idler links, hinge pin, or attaching parts which have previously been replaced in accordance with paragraph (a)(2) of this AD do not need to be replaced.

(2) Any spoiler hold-down actuator supports, idler links, hinge pins, or attaching parts which were replaced prior to the effective date of this AD in accordance with Boeing Service Bulletin 717-57-0004, original issue, dated May 30, 2001, do not need to be replaced.

Alternative Methods of Compliance

(e) An alternative method of compliance or adjustment of the compliance time that provides an acceptable level of safety may be used if approved by the Manager, Los Angeles Aircraft Certification Office (ACO), FAA. Operators shall submit their requests through an appropriate FAA Principal Maintenance Inspector, who may add comments and then send it to the Manager, Los Angeles ACO.

Note 3: Information concerning the existence of approved alternative methods of compliance with this AD, if any, may be obtained from the Los Angeles ACO.

Special Flight Permits

(f) Special flight permits may be issued in accordance with sections 21.197 and 21.199 of the Federal Aviation Regulations (14 CFR 21.197 and 21.199) to operate the airplane to a location where the requirements of this AD can be accomplished.

Incorporation by Reference

(g) The actions shall be done in accordance with Boeing Alert Service Bulletin 717-57A0002, Revision 02, dated October 2, 2001; and Boeing Service Bulletin 717-57-0004, Revision 01, dated October 2, 2001; as applicable. This incorporation by reference was approved by the Director of the Federal Register in accordance with 5 U.S.C. 552(a) and 1 CFR part 51. Copies may be obtained from Boeing Commercial Aircraft Group, Long Beach Division, 3855 Lakewood Boulevard, Long Beach, California 90846, Attention: Data and Service Management, Dept. C1-L5A (D800-0024). Copies may be inspected at the FAA, Transport Airplane Directorate, 1601 Lind Avenue, SW., Renton, Washington; or at the FAA, Los Angeles Aircraft Certification Office, 3960 Paramount Boulevard, Lakewood, California; or at the Office of the Federal Register, 800 North Capitol Street, NW., suite 700, Washington, DC.

Effective Date

(h) This amendment becomes effective on August 16, 2002.

Issued in Renton, Washington, on July 3, 2002.
Jeffrey E. Duven,
Acting Manager, Transport Airplane Directorate, Aircraft Certification Service.

[FR Doc. 02-17299 Filed 7-11-02; 8:45 am]

BILLING CODE 4910-13-P